ENVIRONMENTAL PROTECTION AGENCY

[FRL-8185-8]

Public Workshop To Consider a Report Entitled “Review of the Process for Setting National Ambient Air Quality Standards” and Related Documents

AGENCY: Environmental Protection Agency (EPA).

ACTION: Notice; announcement of public workshop; availability of telephone call-in capability and number to call.

SUMMARY: The EPA published a notice in the Federal Register on Monday, June 12, 2006 (71 FR 33747), announcing a public workshop to be held to elicit public input and discussion on the process the Agency uses to conduct periodic reviews of national ambient air quality standards (NAAQS), as discussed in a recent report prepared by an Agency workgroup. The report is entitled “Review of the Process for Setting National Ambient Air Quality Standards.” This workshop is not intended to cover issues related to the ongoing review of any specific NAAQS. The purpose of today's follow-up notice is to announce the availability of telephone call-in capability and a number to call for those persons who would like to participate but are unable to attend the workshop.

DATES: The public workshop will be held the afternoon of June 27, 2006. It will begin at 1 p.m. eastern daylight time and continue until 5 p.m.

Persons unable to attend the workshop can participate by telephone. If you would like to make a formal presentation either in person or by telephone at the workshop, please notify Ms. Tricia Crabtree. Contact information for Ms. Crabtree is listed below in FOR FURTHER INFORMATION CONTACT.

The time allotted for each oral presentation may be limited depending on the number of individuals who wish to speak. By June 23, 2006, EPA will contact individuals who have requested an opportunity to make a presentation at the workshop to inform them how much time will be allotted. All presenters will be allotted an equivalent amount of time on the agenda. The EPA encourages presenters to provide written versions of their comments either electronically on computer disk or CD-ROM or in paper copy. The workshop agenda, including the list of speakers, will be posted on EPA's Web page at http://www.epa.gov/ttn/naaqs/ prior to the workshop.

If you wish to listen to the workshop, or participate in the discussion, but do not wish to make a formal presentation, you do not need to register with Ms. Crabtree.

The toll-free call-in number is: 866-299-3188. You will be prompted to enter a conference code. The conference code is: 9195411504#. All callers will hear music until the line is opened by the leader.

ADDRESSES: The workshop will be held at the following location: U.S. Environmental Protection Agency, 109 T.W. Alexander Drive, Auditorium C111A, Research Triangle Park, North Carolina 27709.

FOR FURTHER INFORMATION CONTACT: If you have questions concerning the public workshop, please contact Ms. Tricia Crabtree (C504-02), U.S. Environmental Protection Agency, Research Triangle Park, NC 27711, crabtree.tricia@epa.gov, telephone: (919) 541-5688.

Dated: June 15, 2006.
Mary E. Henigin,
Acting Director, Office of Air Quality Planning and Standards.

[FR Doc. E6-9638 Filed 6-16-06; 8:45 am]

BILLING CODE 6560-50-P